DEPARTMENT OF THE INTERIOR

Bureau of Reclamation

[RR02054000, 26XR0680A1, RX021489457000000]

Central Valley Project Improvement Act 2026 Criteria for Evaluating Water Management Plans (Standard Criteria)

AGENCY: Bureau of Reclamation, Interior.

ACTION: Notice of availability.

SUMMARY: The Bureau of Reclamation (Reclamation) has made available the draft 2026 Criteria for Evaluating Water Management Plans (Standard Criteria) for public review and comment.

DATES: Interested persons are invited to submit comments on the draft 2026 Standard Criteria on or before March 30, 2026.

ADDRESSES: Send written comments to Mr. Thomas Hawes, Bureau of Reclamation, Attention: CBG-400, 2800 Cottage Way, Sacramento, CA 95825; or via email at thawes@usbr.gov. To view a copy of the draft 2026 Standard Criteria, go to https://www.usbr.gov/mp/watershare.

FOR FURTHER INFORMATION CONTACT: Mr. Thomas Hawes at (916) 978-5271, or via email at thawes@usbr.gov, regarding the Standard Criteria or to be placed on a mailing list for any subsequent information.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Section 3405(e) of the Central Valley Project Improvement Act (Pub. L. 102-575, title 34) requires the Secretary of the Interior to, among other things, “develop criteria for evaluating the adequacy of all water conservation plans” developed by certain contractors. According to section 3405(e)(1), these criteria must promote “the highest level of water use efficiency reasonably achievable by project contractors using best available cost-effective technology and best management practices.” In accordance with this legislative mandate, Reclamation developed and published the Standard Criteria, which is updated every 3 years.

Public Disclosure. We invite the public to comment on our preliminary (i.e., draft) 2026 Standard Criteria. Before including your address, phone number, email address, or other personal identifying information in your comment, you should be aware that your entire comment—including your personal identifying information—may be made publicly available at any time. While you can ask us in your comment to withhold your personal identifying information from public review, we cannot guarantee that we will be able to do so.

Scott Springer,
Acting Regional Resources Manager, Division of Resources Management, California-Great Basin—Interior Region 10.

[FR Doc. 2025-23911 Filed 12-23-25; 8:45 am]

BILLING CODE 4332-90-P